ENVIRONMENTAL PROTECTION AGENCY

40 CFR Part 52

[MD 096-3061; FRL-6916-8]

Approval and Promulgation of Air Quality Implementation Plans; Maryland; Nitrogen Oxides Budget Program

AGENCY: Environmental Protection Agency (EPA).

ACTION: Final rule.

SUMMARY: EPA is approving a State Implementation Plan (SIP) revision submitted by the State of Maryland. The revision consists of amendments to Maryland's Nitrogen Oxides ( NOX) Budget Program. The revisions implement the Ozone Transport Commission's (OTC) September 27, 1994 Memorandum of Understanding (MOU) in Maryland. In accordance with the MOU, the revisions implement the Maryland portion of a regional NOX cap and trade program that significantly reduces NOX emissions generated within the Ozone Transport Region (OTR). EPA is approving these revisions in accordance with the requirements of the Clean Air Act.

EFFECTIVE DATE: This final rule is effective on January 16, 2001.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Maryland Department of the Environment, 2500 Broening Highway, Baltimore, Maryland 21224.

FOR FURTHER INFORMATION CONTACT: Cristina Fernandez, (215) 814-2178, or by e-mail at fernandez.cristina@epa.gov.

SUPPLEMENTARY INFORMATION:

I. Background

On August 28,1998, the Maryland Department of the Environment (MDE) submitted a revision to its SIP. The revision to the SIP includes the adoption of new sections .01-.14 under a new chapter, COMAR 26.11.27—Post RACT Requirements for NOX Sources (Nitrogen Oxides ( NOX) Budget Program) and new sections .01-.13 under a new chapter, COMAR 26.11.28—Polices and Procedures Relating to Maryland's NOX Budget Program. The revisions implement the Ozone Transport Commission's (OTC) September 27, 1994 Memorandum of Understanding (MOU) in Maryland. In accordance with the MOU, the revisions implement the Maryland portion of a regional NOX cap and trade program that significantly reduces NOX emissions generated within the Ozone Transport Region (OTR).

On November 16, 1999, MDE submitted amendments to its August 28, 1998 SIP revision request. The purpose of these amendments was to change the compliance date of the Maryland NOX Budget Program from May 1, 1999 to May 1, 2000. The revisions to the August 28, 1998 submittal include amendments to Regulations (.04) General Requirements, (.07) Allowance Banking, and (.11) End-of-Season Reconciliation under COMAR 26.11.27 and the repeal of Regulation (.08) Early Reduction Allowances under COMAR 26.11.28. On March 20, 2000, MDE submitted amendments to its August 28, 1998 SIP revision request consisting of two enforceable consent agreements between MDE and the Baltimore Gas and Electric Company and the Potomac Electric Power Company. These consent agreements impose special conditions and time lines for both companies regarding the implementation of Maryland's NOX Budget Trading Program requirements.

On October 19, 2000 (65 FR 62671), EPA published a notice of proposed rulemaking (NPR) for the State of Maryland proposing to approve the August 28, 1998 SIP revision request as amended by the November 16, 1999 and March 20, 2000 submittals. That NPR provided for a public comment period ending on November 9, 2000. On November 9, 2000 (65 FR 67319), EPA published a notice extending the comment period to November 20, 2000. A detailed description of these SIP revisions and EPA's rationale for approving were provided in the October 19, 2000 NPR and will not be restated here. EPA received no comments on its proposed action to approve this SIP revision.

II. Final Action

EPA is approving a revision to the Maryland SIP consisting of COMAR 26.11.27, Post RACT Requirements for NOX Sources ( NOX Budget Program) and COMAR 26.11.28, Polices and Procedures Relating to Maryland's NOX Budget Program, as submitted on August 28, 1998 and as amended on November 16, 1999 and March 20, 2000. These revisions implement Maryland's portion of Phase II of the OTC's MOU to reduce nitrogen oxides. Moreover, this SIP revision is necessary for full approval of the attainment demonstration SIP for the Metropolitan Washington, DC ozone nonattainment area.

III. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by February 13, 2001. Filing a petition for reconsideration by the Administrator of this final rule does not affect the finality of this rule for the purposes of judicial review nor does it extend the time within which a petition for judicial review may be filed, and shall not postpone the effectiveness of such rule or action. This action to approve Maryland NOX Budget Program may not be challenged later in proceedings to enforce its requirements. (See section 307(b)(2).)

List of Subjects in 40 CFR Part 52

Environmental protection, Air pollution control, Incorporation by reference, Nitrogen dioxide, Ozone, Reporting and recordkeeping requirements.

Dated: December 1, 2000.
Bradley M. Campbell,
Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(151) to read as follows:

§ 52.1070 Identification of plan.

* * * * *

(c) * * *

(151) Revisions to the Maryland State Implementation Plan submitted on August 28, 1998, November 16, 1999 and March 20, 2000 by the Maryland Department of the Environment:

(i) Incorporation by reference.

(A) Letter of August 28, 1998 from the Maryland Department of the Environment transmitting additions to the Maryland's State Implementation Plan pertaining to the Nitrogen Oxides Budget Program.

(B) Letter of November 16, 1999 from the Maryland Department of the Environment transmitting additions to the Maryland's State Implementation Plan pertaining to the Nitrogen Oxides Budget Program.

(C) Letter of March 20, 2000 from the Maryland Department of the Environment transmitting additions to the Maryland's State Implementation Plan pertaining to the Nitrogen Oxides Budget Program.

(D) Revisions to COMAR 26.11.27, Post RACT Requirements for NOX Sources (NOX Budget Program) and COMAR 26.11.28, Polices and Procedures Relating to Maryland's NOX Budget Program, effective June 1, 1998.

(1) Addition of COMAR 26.11.27.01 through COMAR 26.11.27.14, except COMAR 26.11.27.04, .07 and .11.

(2) Addition of COMAR 26.11.28.01 through COMAR 26.11.28.13, except COMAR 26.11.28.08.

(E) Revisions to COMAR 26.11.27, Post RACT Requirements for NOX Sources (NOX Budget Program) and COMAR 26.11.28, Polices and Procedures Relating to Maryland's NOX Budget Program, effective October 18, 1999, consisting of the addition of new COMAR 26.11.27.04, .07 and .11.

(F) Revisions to COMAR 26.11.27, Post RACT Requirements for NOX Sources ( NOX Budget Program) and COMAR 26.11.28, Polices and Procedures Relating to Maryland's NOX Budget Program, consisting of the consent agreement between the Maryland Department of the Environment and the Potomac Electric Power Company, effective September 13, 1999.

(G) Revisions to COMAR 26.11.27, Post RACT Requirements for NOX Sources ( NOX Budget Program) and COMAR 26.11.28, Polices and Procedures Relating to Maryland's NOX Budget Program, consisting of the consent agreement between the Maryland Department of the Environment and the Baltimore Gas & Electric Company, effective November 19, 1999.

(ii) Additional Material—Remainder of August 28, 1998, November 16, 1999 and March 20, 2000 submittals pertaining to the Nitrogen Oxides Budget Program.

[FR Doc. 00-32001 Filed 12-14-00; 8:45 am]

BILLING CODE 6560-50-P